DEPARTMENT OF HEALTH AND HUMAN SERVICES

Administration for Children and Families

Notice for Public Comment on the Title IV-E Adoption Assistance Program's Suspension and Termination Policies

AGENCY: Children's Bureau; Administration on Children, Youth and Families; ACF, HHS

ACTION: Notice.

SUMMARY: In accordance with title IV-E of the Social Security Act (42 U.S.C. 673), the Children's Bureau (CB) announces the opportunity for public comment on our suspension and termination policies for the title IV-E adoption assistance program, articulated in the Child Welfare Policy Manual. We similarly announce the opportunity to provide public comment about any other policy areas of concern relating to the title IV-E adoption assistance program.

DATES: Submit written or electronic comments on or before June 29, 2015.

ADDRESSES: Interested persons may submit comments to http://www.regulations.gov/. We urge you to submit comments electronically to ensure they are received in a timely manner. Written comments may also be submitted to Kathleen McHugh, United States Department of Health and Human Services, Administration for Children and Families, Policy Division, 8th Floor, 1250 Maryland Avenue SW., Washington, DC 20024.

FOR FURTHER INFORMATION CONTACT: Kathleen McHugh, United States Department of Health and Human Services, Administration for Children and Families, Policy Division, 8th Floor, 1250 Maryland Avenue SW., Washington, DC 20024. Email address: cbcomments@acf.hhs.gov.

SUPPLEMENTARY INFORMATION: The Social Security Act only permits a title IV-E agency to terminate a child or youth's title IV-E adoption assistance subsidy under three delineated circumstances: (1) The child has attained the age of 18, or the age that the agency has chosen pursuant to sec. 475(8)(B)(iii) and (iv) of the Social Security Act (or the age of 21 if the title IV-E agency has determined that the child has a mental or physical disability which would warrant continuation of assistance); (2) the title IV-E agency determines that the adoptive parents are no longer legally responsible for support of the child; or (3) the title IV-E agency determines that the adoptive parents are no longer providing any support to the child.

CB has interpreted the law to prohibit a title IV-E agency from automatically suspending a title IV-E adoption assistance payment on the basis that suspending title IV-E adoption assistance is equivalent to terminating title IV-E adoption assistance. See Child Welfare Policy Manual, section 8.2D.5, Question and Answer #3 (available at http://www.acf.hhs.gov/cwpm/programs/cb/laws_policies/laws/cwpm/policy_dsp.jsp?citID=82#747).

The statute also requires adoptive parents to keep the title IV-E agency apprised of any circumstances that would impact a child's continued eligibility for title IV-E adoption assistance, or would impact the appropriate amount of the payment. See the Social Security Act at sec. 473(a)(4)(B). However, the statute does not specify a recourse for title IV-E agencies if a parent does not provide such information. CB has explained in the Child Welfare Policy Manual that title IV-E agencies may not suspend or terminate title IV-E adoption assistance if adoptive parents do not respond to requests for information about whether the parents are providing any support to the child, or whether the adoptive parents remain legally responsible for their adopted child. See Child Welfare Policy Manual, section 8.2, Question and Answer #1 (http://www.acf.hhs.gov/cwpm/programs/cb/laws_policies/laws/cwpm/policy_dsp.jsp?citID=63).

We seek comment from title IV-E agencies and other stakeholders about the title IV-E adoption assistance suspension and termination policies. We invite agencies and stakeholders to share their experiences and concerns about how title IV-E agencies implement the suspension and termination policies, and any difficulties they have had ensuring that they are paying title IV-E adoption assistance funds appropriately.

In particular, we encourage respondents to address the following questions:

(1) Should jurisdictions have authority to suspend adoption assistance payments under any circumstances? If so, what specific circumstances should be the basis for suspension?

(2) If suspension was to be permitted, what processes should be required in connection with suspension, and what processes should be required for reinstatement?

More generally, we invite title IV-E agencies and other stakeholders to share their broader concerns about the title IV-E adoption assistance program that are unrelated to suspending or terminating adoption assistance payments.

Dated: March 23, 2015.
Mark H. Greenberg,
Acting Assistant Secretary for Children and Families.

[FR Doc. 2015-07389 Filed 3-30-15; 8:45 am]

BILLING CODE 4184-29-P